UNIFIED CARRIER REGISTRATION PLAN

Sunshine Act; Meeting

TIME AND DATE: June 30, 2022, 12 p.m. to 2 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 984 5137 4096, to listen and participate in this meeting. The website to participate via Zoom Meeting and Screenshare is https://kellen.zoom.us/meeting/register/tJwpcuirqT8qE9JrExdxhInvTjO-4LtN_WZV.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—UCR Audit Subcommittee Chair

The UCR Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Audit Subcommittee Chair

For Discussion and Possible Audit Subcommittee Action—The agenda will be reviewed, and the Subcommittee will consider adoption.

Ground Rules

➢ Subcommittee action only to be taken in designated areas on the agenda.

IV. Review and Approval of Subcommittee Minutes from the April 14, 2022 Meeting—UCR Audit Subcommittee Chair

For Discussion and Possible Subcommittee Action—Draft minutes from the April 14, 2022 Subcommittee meeting via teleconference will be reviewed. The Subcommittee will consider action to approve.

V. Additional Compliance Evaluation Tools for the Annual State Audit Progress Report—UCR Audit Subcommittee Chair

For Discussion and Possible Subcommittee Action—The UCR Audit Subcommittee Chair will lead a discussion regarding the current evaluation process for the participating states' audit programs as required by the UCR Agreement. The Subcommittee will discuss options to require states to review and close all bracket 5 and 6 unregistered motor carriers. The Subcommittee may take action to approve and recommend to the UCR Board such requirement as discussed by the Subcommittee.

VI. Potential revisions to the UCR Handbook—UCR Audit Subcommittee Chair and UCR Executive Director

For Discussion and Possible Subcommittee Action—The UCR Audit Subcommittee Chair and UCR Executive Director will lead a discussion regarding potential revisions and clarifications to the language in the UCR Handbook pertaining to the usage of the term “operated” as it relates to a motor carrier beginning operations. An update on other proposed revisions to the UCR Handbook will also be presented and discussed. The Subcommittee may take action to approve proposed revisions to the UCR Handbook and recommend the revisions to the UCR Board.

VII. Motor Carriers Operating Without an Active USDOT Number—UCR Audit Subcommittee Vice-Chair

The UCR Audit Subcommittee Vice-Chair will lead a discussion on how often a 49 CFR Section 392.9b (Prohibited Transportation) violation occurs and how to contact operators to remedy the problem.

VIII. State Compliance Review Program—UCR Audit Subcommittee Chair and UCR Depository Manager

The UCR Audit Subcommittee Chair and the UCR Depository Manager will lead a discussion on program objectives and states scheduled for review in 2022.

IX. Open Discussion Regarding Ways and Means to Increase UCR Registration Percentages—UCR Audit Subcommittee Chair and UCR Audit Subcommittee Vice-Chair

The UCR Audit Subcommittee Chair and UCR Audit Subcommittee Vice-Chair will lead a discussion to share state resources (auditors and other contacts), leveraging partner relationships, auditing tools and other ideas to increase UCR registration percentages to promote improving fairness within the industry.

X. Maximizing the Value of the Should Have Been (SHB) and Enforcement Efficiency Tools—UCR Audit Subcommittee Chair, UCR Audit Subcommittee Vice-Chair and DSL Transportation Services, Inc. (DSL)

The UCR Audit Subcommittee Chair, UCR Audit Subcommittee Vice-Chair and DSL will provide an update on the value achieved by utilizing the Shadow MCMIS and other tools in the National Registration System (NRS). The discussion will highlight the financial value to the states by vetting businesses for UCR compliance, commercial registration, IFTA, intrastate, and interstate operating authority.

XI. Future Virtual Audit Training Sessions for State Auditors—UCR Audit Subcommittee Chair, UCR Audit Subcommittee Vice-Chair and DSL

The UCR Audit Subcommittee Chair, UCR Audit Subcommittee Vice-Chair and DSL will lead a discussion regarding the value of providing a series of 30-minute virtual audit training sessions.

XII. Future Audit Subcommittee Meetings—UCR Audit Subcommittee Chair and UCR Audit Subcommittee Vice-Chair

The UCR Audit Subcommittee Chair and UCR Audit Subcommittee Vice-Chair will lead a discussion regarding future virtual and in-person meetings.

XIII. Other Items—UCR Audit Subcommittee Chair

The UCR Audit Subcommittee Chair will call for any other items Subcommittee members would like to discuss.

XIV. Adjournment—UCR Audit Subcommittee Chair

The UCR Audit Subcommittee Chair will adjourn the meeting.

The agenda will be available no later than 5 p.m. Eastern time, June 22, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-13755 Filed 6-23-22; 4:15 pm]

BILLING CODE 4910-YL-P